DEPARTMENT OF AGRICULTURE

Agricultural Marketing Service

[Doc. No. AMS-FTPP-24-0063]

Notice of Request for Extension of a Currently Approved Information Collection

AGENCY: Agricultural Marketing Service, USDA.

ACTION: Notice and request for comments.

SUMMARY: In accordance with the Paperwork Reduction Act of 1995 (PRA), this notice announces the Agricultural Marketing Service's (AMS) intention to request approval, from the Office of Management and Budget, for an extension of and revision to the currently approved information collection in support of the reporting and recordkeeping requirements under the Packers and Stockyards Act of 1921, as amended and supplemented (P&S Act). This approval is required under the PRA.

DATES: Comments on this notice must be received by January 31, 2025 to be assured of consideration

ADDRESSES: Interested persons are invited to submit comments concerning this notice online using the electronic process available at https://www.regulations.gov. Comments may also be submitted to Brett Offutt, Chief Legal Officer/Policy Advisor, Packers and Stockyards Division, Rm. 2507, 1400 Independence Ave. SW, Washington, DC 20250-3601. All comments should reference docket number AMS-FTPP-24-0063 and note the date and page number of this issue of the Federal Register. All comments submitted in response to this notice, including any personal information provided, will be posted without change at https://www.regulations.gov/ and become a matter of public record.

FOR FURTHER INFORMATION CONTACT: Contact Amy R. Blechinger, Acting Enforcement Branch Chief, Packers and Stockyards Division, USDA AMS Fair Trade Practices Program, 1400 Independence Ave. SW, Washington, DC 20250; Phone: (202) 720-5877, or Email: amy.r.blechinger@usda.gov.

SUPPLEMENTARY INFORMATION:

Title: Regulations and Related Reporting and Recording Requirements—Packers and Stockyards Division

OMB Number: 0581-0308.

Expiration Date of Approval: January 31, 2025.

Type of Request: Extension and revision of a currently approved information collection.

Abstract: The P&S Act and the regulations issued under the P&S Act authorize the collection of information for the purpose of enforcing the P&S Act and regulations and for conducting studies requested by Congress. Through the forms in this information collection, the Fair Trade Practices Program (FTPP), Packers and Stockyards Division (PSD) gathers information that keeps PSD current on the ownership and operations of regulated entities which permit PSD oversight of the regulated entities. For example, PSD gathers information regarding the number of head of livestock purchased and the cost of the livestock to determine if the entity is adequately bonded to protect the livestock sellers. The information regarding the amount of livestock purchased is also consolidated for public reporting in PSD's annual report. Other financial information is gathered to determine if the regulated entities are operating while solvent as required by the P&S Act. This information collection is necessary for PSD to monitor and examine financial, competitive, and trade practices in the livestock, meat packing and poultry industries. The purpose of this notice is to solicit comments from the public concerning PSD's information collection.

Estimate of Burden: Public reporting burden for this collection of information is estimated to average 1.73 hours per response.

Respondents: Livestock auction markets, livestock dealers, packer buyers, meat packers, and live poultry dealers.

Estimated Number of Respondents: 14,129.

Estimated Total Annual Responses: Less than 1.8 hours.

Estimated Number of Responses per Respondent: 1.

Estimated Total Annual Burden hours on Respondents: 49,339.

Comments: Comments are invited on: (1) whether the proposed collection of information is necessary for the proper performance of the functions of the Agency, including whether the information will have practical utility; (2) the accuracy of the Agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Erin Morris,
Associate Administrator, Agricultural Marketing Service.

[FR Doc. 2024-28211 Filed 11-29-24; 8:45 am]

BILLING CODE P